DEPARTMENT OF EDUCATION

[CFDA No. 84.358A]

Small, Rural School Achievement Program

AGENCY: Office of Elementary and Secondary Education, Department of Education.

ACTION: Notice announcing application deadline.

SUMMARY: Under the Small, Rural School Achievement (SRSA) Program, the Assistant Secretary for Elementary and Secondary Education awards grants on a formula basis to eligible local educational agencies (LEAs) to address the unique needs of rural school districts. In this notice, we establish the deadline for submission of fiscal year (FY) 2006 SRSA grant applications.

If an eligible LEA submitted an application for SRSA grant funds in a prior year, it is considered to have met the application requirement based on its previously submitted application and does not have to submit a new application to the Department to receive its FY 2006 SRSA grant award.

An eligible LEA that is required to submit an application (in other words, an LEA that did not submit an application in a prior year) must do so by the deadline in this notice in order to receive its grant award by September 30, 2006. An eligible LEA that is required to submit an application and does not do so by the deadline in this notice might not receive its grant award until after September 30, 2006.

Application Deadline: June 2, 2006, 4:30 p.m. Eastern time.

SUPPLEMENTARY INFORMATION:

Which LEAs Are Eligible for an Award Under the SRSA Program?

An LEA is eligible for an award under the SRSA program if—

(a) The total number of students in average daily attendance at all of the schools served by the LEA is fewer than 600, or each county in which a school served by the LEA is located has a total population density of fewer than 10 persons per square mile; and

(b) All of the schools served by the LEA are designated with a school locale code of 7 or 8 by the Department's National Center for Education Statistics, or the Secretary has determined, based on a demonstration by the LEA and concurrence of the SEA, that the LEA is located in an area defined as rural by a governmental agency of the State.

Which Eligible LEAs Need Not Submit an Additional Application To Receive a FY 2006 SRSA Grant Award?

Under the regulations in 34 CFR 75.104(a), the Secretary makes grants only to an eligible party that submits an application. Given the limited purpose served by an application under this program, the Secretary considers this requirement to be met if the LEA submitted an SRSA application for a prior year. In this circumstance, unless the LEA advises the Secretary by the application deadline that it is withdrawing its application, the Secretary deems the application that the LEA previously submitted to remain in effect for FY 2006 funding, and the LEA does not have to submit an additional application. All other eligible LEAs must submit a new application to receive a FY 2006 grant award.

We intend to provide, by May 1, 2006, a list of LEAs eligible for FY 2006 funds on the Department's Web site at http://www.ed.gov/programs/reapsrsa/index.html . The Web site will also indicate which of these eligible LEAs must submit a new application to the Department to receive their FY 2006 SRSA grant award, and which eligible LEAs are considered already to have met the application requirement.

Eligible LEAs that must submit a new application in order to receive FY 2006 SRSA funding must do so electronically by the deadline established in this notice in order to receive their grant by September 30, 2006.

Electronic Submission of Applications: Unless it is listed on the Department's Web site as not required to submit a new application, an eligible LEA that seeks FY 2006 SRSA funding must submit an electronic application by June 2, 2006, 4:30 p.m. Eastern time in order to receive its grant award by September 30, 2006. Submission of an electronic application involves the use of the Department's Electronic Grant Application System (e-Application) available through the Department's e-GRANTS system.

You can access the electronic application for the SRSA Program at: http://e-grants.ed.gov.

Once you access this site, you will receive specific instructions regarding the information to include in your application.

The regular hours of operation of the e-Grants Web site are 6 a.m. Monday until 7 p.m. Wednesday; and 6 a.m. Thursday until midnight, Saturday (Washington, DC time). Please note that the system is unavailable on Sundays, Federal holidays, and after 7 p.m. on Wednesdays for maintenance (Washington, DC time).

FOR FURTHER INFORMATION CONTACT: Mr. Robert Hitchcock, U.S. Department of Education, 400 Maryland Avenue, SW., room 3E243, Washington, DC 20202. Telephone: (202) 401-0039 or via Internet: reap@ed.gov.

If you use a telecommunications device for the deaf (TDD), you may call the Federal Relay Service (FRS) at 1-800-877-8339.

Individuals with disabilities may obtain this notice in an alternative format (e.g., Braille, large print, audiotape, or computer diskette) on request to the contact person listed under FOR FURTHER INFORMATION CONTACT.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO Access at: http://www.gpoaccess.gov/nara/index.html.

Program Authority: 20 U.S.C. 7345-7345b.

Dated: February 28, 2006.
Henry L. Johnson,
Assistant Secretary for Elementary and Secondary Education.

[FR Doc. E6-3507 Filed 3-10-06; 8:45 am]

BILLING CODE 4000-01-P